DEPARTMENT OF HEALTH AND HUMAN SERVICES

Availability of Funds and Request for Applications for the Disease Prevention and Health Promotion Education and Training Program

AGENCY: Department of Health and Human Service, Office of the Secretary, Office of Public Health and Science, Office of Disease Prevention and Health Promotion.

ACTION: Notice.

SUMMARY: The Office of Disease Prevention and Health Promotion (ODPHP) announces the availability of fiscal year (FY) 2002 funds for a cooperative agreement to provide health promotion and disease prevention educational and training opportunities for medical students, preventive medicine residents, primary care residents, and practicing physicians.

Approximately $125,000 will be available in fiscal year 2002. This award will begin on or about September 30, 2002 for a 12-month budget period with a project period of 5 years. Funding estimates may vary and are subject to change.

Continuation awards within the project period will be made on the basis of satisfactory progress and availability of funds. The OMB Catalog of Federal Domestic Assistance number for the National Health Promotion Program is 93.990.

Authority: This program is authorized under section 301 and sections 1701 through 1704 of the Public Health Service Act, as amended, 42 U.S.C. 241 and 42 U.S.C. 300u through 300u-3.

ADDRESSES: Applications for this announcement shall be submitted to Ms. Karen Campbell, Grants Management Officer, Division of Management Operations, Office of Minority Health, Rockwall II Building, Suite 1000, 5515 Security Lane, Rockville, MD 20852. Send the original and 2 copies of the complete application to this address. Only original hard copy applications are acceptable.

DATES: To receive consideration, applications must be received by September 16, 2002. Applications will be considered as meeting the deadline if they are: Received on or before the deadline date by the Office of Minority Health by 5 PM EDT. Applications hand-carried by applicants or by applicant couriers shall be considered as meeting an announced deadline if they are received on or before the deadline date between the hours of 9 a.m. to 5 p.m. at the address indicated above. Applications submitted by facsimile transmission (FAX) or any other electronic format will not be accepted. Applications which do not meet the deadline will be considered late and will be returned to the applicant unread.

FOR FURTHER INFORMATION CONTACT: Ms. Sally Jones, Administrative Officer, Office of Disease Prevention and Health Promotion, Hubert H. Humphrey Building Room 738-G, 200 Independence Avenue, SW., Washington, DC 20201, (202) 260-7654.

SUPPLEMENTARY INFORMATION: The Office of Disease Prevention and Health Promotion (ODPHP) uses cooperative agreements with public and non-profit organizations to support its mandate to provide leadership to promote health and prevent disease among Americans through management and coordination of the implementation of Healthy People 2010, the nation's health objectives for this decade. Through cooperative agreements, ODPHP has forged public-private partnerships to extend the reach and effectiveness of its work. For a copy of Healthy People 2010, visit the Internet site: http://www.health.gov/healthypeople.

ODPHP intends to provide $125,000 to one grantee to enhance core competencies in health promotion and disease prevention for medical students, residents, and physicians. Measurable outcomes will include increased knowledge and understanding of the content, value and usage of such materials as Healthy People 2010, the Leading Health Indicators, Guide to Clinical Preventive Services, Guide to Community Preventive Services, and health promotion and disease prevention in general.

Application Kit

For this cooperative agreement, Form PHS 5161-1 (Revised July, 2000 and approved by OMB under Control Number 0937-0189) must be used. An applicant is advised to pay close attention to the specific program guidelines and general instructions provided in the application kit. To get an application kit, write to: Ms. Karen Campbell, Grants Management Officer, Division of Management Operations, Office of Minority Health, Rockwall II Building, Suite 1000, 5515 Security Lane, Rockville, MD 20852; or call Karen Campbell at (301) 594-0758.

Eligible Applicants: To qualify for funding, an applicant must be a professional organization/society or institution of higher learning responsible for the education of medical students, preventive-medicine residents, primary-care residents, and practicing physicians from communities across the country. Eligible applicant organizations are encouraged to apply as partnerships.

Faith-based organizations that meet the definition of a professional organization/society or institution of higher learning responsible for the training of those populations listed above are eligible to apply for this Disease Prevention and Health Promotion Education and Training Program Cooperative Agreement.

Availability of Funds: About $125,000 is expected to be available in FY 2002 to fund one cooperative agreement. It is expected that this award will begin on or about September 30, 2002 and will be made for a 12-month budget period with a project period of five years. Funding estimates may change. Grantee may make contracts. Grantee will not be expected to match funds or share project costs.

Use of Funds: Funds cannot be used for construction or renovation, to purchase or lease vehicles or vans, to purchase a facility to house project staff or carry out project activities, or to substitute new activities and expenditures for current ones.

Grantee Responsibilities

1. The successful applicant, in collaboration with the ODPHP, will develop, implement and monitor Medical Student education in disease prevention and health promotion:

a. Develop and execute a 2-3 day educational seminar for selected medical students to enhance their understanding of community-based health promotion and disease prevention strategies in the context of Healthy People 2010 and the Leading Health Indicators. This may be modeled on the 2002 Paul Ambrose Health Promotion Medical Student Leadership Symposium. (See attached documentation for further specifics.)

b. Assist symposium students and their sponsoring institutions in the development of a specific health promotion or disease prevention project prior to and/or following the symposium by linking medical students to faculty at their institution of higher learning engaged in disease prevention and health promotional activities.

c. Provide a forum for students to present the results of their project.

2. The successful applicant, in collaboration with the ODPHP, will develop, implement and monitor Preventive Medicine and Primary Care Resident education in disease prevention and health promotion:

a. Facilitate/coordinate an elective rotation at ODPHP of 1-3 months duration. (2 month minimum for preventive medicine residents)

b. Recruit and select preventive medicine and primary care residents to participate in this elective.

c. Convene a meeting at the onset of the initial project year of relevant residency program directors and field placement/site mentors and/or advisors to review program goals, objectives and educational plans.

3. The successful applicant, in collaboration with the ODPHP, will develop and present a proposal to expand disease prevention and health promotion education opportunities for primary care providers. This may include, for example, expanding opportunities for continuing medical education or other mechanisms for educating practitioners on the principles of health promotion and disease prevention.

4. The successful applicant will assist ODPHP with the Luther Terry Fellowship including the framework for identifying education content and resources in the public health community for the development and implementation of the Luther Terry Fellowship.

ODPHP Responsibilities

Substantial programmatic involvement is as follows:

1. ODPHP will provide technical assistance and oversight as necessary for the overall design and implementation of the Disease Prevention and Health Promotion Education and Training programs.

2. ODPHP will participate with grantee in the development of, and ultimately approve, educational materials and program activities for medical students, residents, and practicing physicians.

3. Provide site location and mentorship for preventive medicine residents and primary care residents on educational assignment at ODPHP.

4. ODPHP will provide assistance to the management of program strategies, direction, evaluation activities, and any decisions related to adjustments in funding levels of participating institutions.

5. ODPHP will participate in site visits to training events, as deemed appropriate.

Review of Applications

Applications that are not complete or that do not conform to or address the criteria of the announcement will be returned without comment. Each organization may submit no more than one proposal under this announcement. Organizations submitting more than one proposal will be deemed ineligible. The proposals will be returned without comment. Accepted applications will be reviewed for technical merit in accordance with PHS policies. Applications will be evaluated by an Objective Review Panel. Panel members are chosen for their expertise in disease prevention and health promotion issues at the national and local levels. Applications should be no more than 30 pages in length, excluding resumes and organizational background material.

Application Review Criteria

The technical review of applications will consider the following 5 generic factors:

(1) Education and Training Plan (30 points)

The proposed goals and objectives in the Education Plan relate to the goal of increasing knowledge and use of disease prevention and health promotion materials and methods among the targeted levels of medical students/residents and practitioners:

—Extent to which the plan summarizes the state of disease prevention and health promotion education for medical students, preventive medicine and primary care residents, and practicing primary care physicians. Including a description of the extent to which “disease prevention and health promotion” didactic and applied experiences and opportunities exist in medical education and clinical practice.

—Description of how the applicant develops each activity specific to the medical students, preventive medicine residents and primary care residents, and practicing physicians as outlined under Grantee Responsibilities.

—Appropriateness and relationship of strategies and objectives to the overall goal and implementation of the required activities.

—Appropriateness of specific, realistic, measurable and time-phased process and outcome objectives for each of the strategies to be implemented.

—Relevancy of the evidentiary basis for the proposed strategies.

—Degree to which the Healthy People 2010 initiative, corresponding Healthy People State plans, the Leading Health Indicators, the Clinical and Community Guides to Preventive Services will be incorporated into proposed activities.

—Where applicable, how proposed strategies and objectives are currently being implemented using other resources.

—How applicant will leverage additional resources for implementation of components of the each educational/training activity.

(2) Project Evaluation (20 points)

—Extent to which application describes how process and outcome objectives for all educational activities will be measured, evaluated and documented.

—Identification of mechanisms to track: (1) The participants in the three educational/training activities, (2) the effect(s) the activities have on the respective careers, and (3) use of clinical preventive services and participation in health promotional activities.

—Feasibility and appropriateness of evaluation design;

—Ability to share and disseminate project results.

(3) Organizational Capabilities/Qualifications (20 points)

—The management and administrative structure of the applicant is explained. Evidence of the applicant's ability to manage a project of the proposed activities is well defined.

—The application clearly demonstrates the successful management of projects of similar scope by the organization and or by the individual and/or team designated to manage the project.

—The organization's active involvement in education and or training of the targeted groups is demonstrated.

—Position descriptions and/or resumes of key personnel, including those of consultants/contractors, are presented. The position descriptions and/or resumes relate specifically to the staff proposed in the proposed approach and in the proposed budget of the application. Position descriptions clearly describe the position and its duties and clearly relate to the personnel staffing required to achieve the project objectives. Resumes demonstrate that the proposed staff are qualified to carry out the proposed activities. Either the position descriptions or the resumes contain the qualifications, and/or specialized skills, necessary for overall quality management of the project. Resumes must be included if individuals have been identified for positions in the application.

(4) Partnerships (15 points)

—Description of how partners (if any) were selected and how they will contribute to the development, implementation, monitoring, and any modifications to the proposed activities over time.

(5) Budget (15 points)

A detailed and fully explained budget is provided which:

—Justifies each line item, with a well-written justification, in the budget categories of the application;

—Includes and justifies sufficient cost and other necessary details to facilitate the determination of cost allowability and the relevance of these costs to the proposed activities;

—Requests funds which are appropriate and necessary for the scope of the proposed activities; and

—Demonstrates administrative efficiency and value which allows for the maximizing of resources for the proposed activities.

General Reporting Requirements

A successful applicant under this notice will also submit (1) semi-annual progress reports; (2) an annual Financial Status Report; and (3) a final progress report and Financial Status Report in the format established by ODPHP, in accordance with provisions of the general regulations which apply under “Monitoring and Reporting Program Performance,” 45 CFR 74.51-74.52, with the exception of State and local governments to which 45 CFR part 92, Subpart C reporting requirements apply.

Provision of Smoke-Free Workplace and Non-Use of Tobacco Products by Recipients of PHS

Grants

The PHS strongly encourages all grant recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is subject to Public Health System Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted:

(a) A copy of the face page of the application (SF 424), and

(b) A summary of the project (PHSIS), not to exceed one page, which provides:

(1) A description of the population to be served,

(2) A summary of the services to be provided, and

(3) A description of the coordination planned with the appropriate State or local health agencies.

Copies of the letters forwarding the PHSIS to these authorities must be contained in the application materials submitted to the Office of Disease Prevention and Health Promotion.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the Office of Disease Prevention and Health Promotion's Acting Grants Management Officer. The Office of Disease Prevention and Health Promotion does not guarantee that it will accommodate or explain its responses to State process recommendations received after that date. (See “Intergovernmental Review of Federal Programs” Executive Order 12372 and 45 CFR part 100 for a description of the review process and requirements).

Dated: August 2, 2002.
Randolph F. Wykoff,
Deputy Assistant Secretary for Health (Disease Prevention and Health Promotion), Director, Office of Disease Prevention and Health Promotion.

[FR Doc. 02-20306 Filed 8-9-02; 8:45 am]

BILLING CODE 4150-32-P